DEPARTMENT OF THE TREASURY

Internal Revenue Service

26 CFR Part 1

[REG-111629-23]

RIN 1545-BM80

Guidance Regarding Elections Relating to Foreign Currency Gains and Losses; Correction

AGENCY: Internal Revenue Service (IRS), Treasury.

ACTION: Notice of proposed rulemaking; correction.

SUMMARY: This document contains corrections to the proposed regulations (REG-111629-23), published in the Federal Register on August 20, 2024. The proposed regulations are regarding the time for making and revoking certain elections relating to foreign currency gain and loss.

DATES: Written or electronic comments and requests for a public hearing are still being accepted and must be received by October 18, 2024.

ADDRESSES: Commenters were strongly encouraged to submit public comments electronically via the Federal eRulemaking Portal at www.regulations.gov (indicate IRS and REG-111629-23) by following the online instructions for submitting comments. Requests for a public hearing must be submitted as prescribed in the “Comments and Requests for a Public Hearing” section of the notice of proposed rulemaking published on August 20, 2024 (89 FR 67336). Once submitted to the Federal eRulemaking Portal, comments cannot be edited or withdrawn. The Department of the Treasury (“Treasury Department”) and the IRS will publish for public availability any comments submitted to the IRS's public docket. Send hard copy submissions to: CC:PA:01:PR (REG-111629-23), Room 5203, Internal Revenue Service, P.O. Box 7604, Ben Franklin Station, Washington, DC 20044.

FOR FURTHER INFORMATION CONTACT: Edward Tracy at (202) 317-5443 (not a toll-free number).

SUPPLEMENTARY INFORMATION:

Background

The proposed regulations (REG-111629-23) subject to this correction are proposed to be issued under sections 954 and 988 of the Internal Revenue Code.

Corrections

Accordingly, FR Doc. 2024-18281 (REG-111629-23), appearing on page 67336 in the Federal Register on Tuesday, August 20, 2024, is corrected as follows:

1. On page 67339, in the first column, in the first partial paragraph, the fifth line is corrected to read “year. Taxpayers”.

2. On page 67339, in the first column, in the first partial paragraph, the last line is corrected to read “2017 proposed regulations for taxable years ending after August 19, 2024.”.

3. On page 67339, in the first column, in the first full paragraph, the last line is corrected to read “regulations, except to make elections for taxable years beginning on or before August 19, 2024.”.

4. On page 67340, in the second column, under the heading “Partial Withdrawal of Proposed Regulations” the first full paragraph is corrected to read “Under the authority of 26 U.S.C. 7805: (1) proposed § 1.954-2(g)(3)(iii) and (g)(4)(iii), contained in the notice of proposed rulemaking that was published in the Federal Register on December 19, 2017 (82 FR 60135), are withdrawn for taxable years ending after August 19, 2024; (2) proposed § 1.988-7(d) and (e), contained in the notice of proposed rulemaking that was published in the Federal Register on December 19, 2017 (82 FR 60135), are withdrawn as of August 19, 2024; and (3) proposed § 1.988-7(c) contained in the notice of proposed rulemaking that was published in the Federal Register on December 19, 2017 (82 FR 60135), is withdrawn for taxable years beginning after August 19, 2024.”.

§ 1.988-7 [Corrected]

5. On page 67341, in the first column, in § 1.988-7, the last line of paragraph (c)(1) is corrected to read “election is made, or if applicable, with a request for an extension of time to file that return.”.

Oluwafunmilayo A. Taylor,
Chief, Publications and Regulations Section, Associate Chief Counsel (Procedure and Administration).

[FR Doc. 2024-19792 Filed 9-3-24; 8:45 am]

BILLING CODE 4830-01-P